SECURITIES AND EXCHANGE COMMISSION

[Release No. 34-48365A; File No. SR-NYSE-98-14]

Self-Regulatory Organizations; Order Approving Proposed Rule Change and Amendment Nos. 1, 2, and 3 by the New York Stock Exchange, Inc. Relating to Margin Requirements; Correction

February 5, 2004.

Release No. 34-48365 (the “Release”), issued on August 19, 2003, and published in the Federal Register on August 26, 2003,¹ contained errors in Part II.C.3 and in Part IV.² Specifically, Part II.C.3 of the Release stated that the proposal defined an “exempt account” to include “any person that has a net worth of at least $40 million and financial assets of at least $45 million” and that met other specified requirements. Part IV of the Release stated that “the definition of exempt account is limited to certain regulated entities as well as to persons with net worth of at least $40 million and financial assets of at least $45 million” and that met other specified requirements. In both cases, the financial requirements for exempt accounts were stated incorrectly. The financial requirements should state that an “exempt account” includes any person that has net worth of at least $45 million and financial assets of at least $40 million.

¹ See 68 FR 51314.

² See 68 FR 51314, 51315 and 51316.

Accordingly, Part II.C.3 of the Release should be revised to state that an “exempt account” includes “any person that has a net worth of at least $45 million and financial assets of at least $40 million” and that meets the other requirements for exempt accounts specified in the Release. Part IV of the Release should be revised to state that “the definition of exempt account is limited to certain regulated entities as well as to persons with net worth of at least $45 million and financial assets of at least $40 million” and that meets the other requirements for exempt accounts specified in the Release.

For the Commission, by the Division of Market Regulation, pursuant to delegated authority.³
³ 17 CFR 200.30-3(a)(12).
Margaret H. McFarland,
Deputy Secretary.

[FR Doc. 04-3108 Filed 2-11-04; 8:45 am]

BILLING CODE 8010-01-P